DEPARTMENT OF TRANSPORTATION

Federal Aviation Administration

14 CFR Part 39

[Docket No. FAA-2021-0188; Project Identifier MCAI-2020-00642-R; Amendment 39-21572; AD 2021-11-10]

RIN 2120-AA64

Airworthiness Directives; Airbus Helicopters

AGENCY: Federal Aviation Administration (FAA), DOT.

ACTION: Final rule.

SUMMARY: The FAA is adopting a new airworthiness directive (AD) for certain Airbus Helicopters Model SA-365N, SA-365N1, AS-365N2, and AS 365 N3 helicopters. This AD was prompted by a report that damage (scorch marks) was found on an internal life raft installation that contained a half rescue kit. This AD requires identifying the part number and serial number of each half rescue kit located in the internal life raft installation and, depending on the findings, inspecting the life raft for damage, inspecting the condition of the flashlight battery, testing the flashlight battery, and replacing the life raft or flashlight battery (including the leak test) as applicable, as specified in a European Aviation Safety Agency (now European Union Aviation Safety Agency) (EASA) AD, which is incorporated by reference. The FAA is issuing this AD to address the unsafe condition on these products.

DATES: This AD is effective August 27, 2021.

The Director of the Federal Register approved the incorporation by reference of certain publications listed in this AD as of August 27, 2021.

ADDRESSES: For EASA material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. For Zodiac Aerospace service information identified in this final rule, contact Safran Aerosystems—Plaisir, 61 rue Pierre Curie CS20001, 78373 Plaisir Cedex, France; telephone (33) 1 61 34 23 23; fax (33) 1 61 34 24 41; or at https://www.safran-aerosystems.com. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0188.

Examining the AD Docket

You may examine the AD docket on the internet at https://www.regulations.gov by searching for and locating Docket No. FAA-2021-0188; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Program Manager, Large Aircraft Section, International Validation Branch, Compliance & Airworthiness Division, FAA, 2200 South 216th St., Des Moines, WA 98198; telephone and fax 206-231-3218; email kathleen.arrigotti@faa.gov.

SUPPLEMENTARY INFORMATION:

Background

The EASA, which is the Technical Agent for the Member States of the European Union, has issued EASA AD 2016-0028, dated February 15, 2016 (EASA AD 2016-0028) (also referred to as the Mandatory Continuing Airworthiness Information, or the MCAI), to correct an unsafe condition for certain Airbus Helicopters Model SA-365N, SA-365N1, AS-365N2, and AS 365 N3 helicopters.

The FAA issued a notice of proposed rulemaking (NPRM) to amend 14 CFR part 39 by adding an AD that would apply to certain Model SA-365N, SA-365N1, AS-365N2, and AS 365 N3 helicopters. The NPRM published in the Federal Register on March 23, 2021 (86 FR 15431). The NPRM was prompted by a report that damage (scorch marks) was found on an internal life raft installation that contained a half rescue kit. Investigation revealed that the damage was caused by an unsuitable folding process for the life raft, which led to compression of the flashlight battery in the half rescue kit. This compression caused an electrolyte leakage, followed by a short-circuit that damaged the internal life raft. The NPRM proposed to require identifying the part number and serial number of each half rescue kit located in the internal life raft installation and, depending on the findings, inspecting the life raft for damage, inspecting the condition of the flashlight battery, testing the flashlight battery, and replacing the life raft or flashlight battery (including the leak test) as applicable, as specified in an EASA AD.

The FAA is issuing this AD to address leakage of the flashlight battery in a half rescue kit, which could result in damage to the internal life raft, and subsequent failure of the internal life raft to deploy (for example after a ditching), which could impede or prevent safe evacuation of the occupants from the helicopter. See the MCAI for additional background information.

Discussion of Final Airworthiness Directive

Comments

The FAA gave the public the opportunity to participate in developing this final rule. The FAA received no comments on the NPRM or on the determination of the cost to the public.

Costs of Compliance Update

The NPRM did not include the kit cost for the on-condition action specified in paragraph (2) of EASA AD 2016-0028. The FAA has received this cost data and has updated the costs of compliance accordingly.

Conclusion

The FAA reviewed the relevant data and determined that air safety and the public interest require adopting this final rule as proposed, except for minor changes. In the NPRM, the FAA proposed to require actions specified in EASA AD 2016-0028 through incorporation by reference, except for certain differences. The FAA has obtained approval to use this process from certain manufacturers, including Airbus Helicopters; however, the FAA has not worked with Zodiac Aerospace (which has been merged into Safran Aerosystems) for approval of this process. EASA AD 2016-0028 specifies using Zodiac Aerospace Service Bulletin SB 025-64-13, Revision 0, dated November 23, 2015 (SB 025-64-13 Rev 0) or Revision 1, dated January 19, 2016 (SB 025-64-13 Rev 1), to accomplish a certain action. In light of this, an exception has been added into this final rule to directly use SB 025-64-13 Rev 0 or SB 025-64-13 Rev 1, instead of using SB 025-64-13 Rev 0 or SB 025-64-13 Rev 1 through incorporation by reference of EASA AD 2016-0028.

The FAA has determined that these minor changes:

• Are consistent with the intent that was proposed in the NPRM for addressing the unsafe condition; and

• Do not add any additional burden upon the public than was already proposed in the NPRM.

Related Service Information Under 1 CFR Part 51

EASA AD 2016-0028 specifies identifying the part number and serial number of each half rescue kit located in the internal life raft installation, inspecting the life raft for damage (scorch marks), inspecting the condition of the flashlight battery (including cracks, impacts, swelling, damage, distorted case, and the connecting wire), testing the flashlight battery (turning on the flashlight), and replacing the life raft or flashlight battery (including the leak test).

The FAA reviewed SB 025-64-13 Rev 0, which specifies procedures to visually inspect the condition of the life raft and battery, and test the battery. The FAA also reviewed SB 025-64-13 Rev 1, which specifies the same procedures as SB 025-64-13 Rev 0, except SB 025-64-13 Rev 1 corrects the serial numbers identified in the effectivity.

This material is reasonably available because the interested parties have access to it through their normal course of business or by the means identified in the ADDRESSES section.

Differences Between This AD and the MCAI

Although the service information referenced in EASA AD 2016-0028 specifies to return damaged life rafts to the manufacturer, this AD does not include that requirement.

Where EASA AD 2016-0028 refers to its effective date or to January 7, 2016 (the effective date of EASA AD 2015-0242), this AD requires compliance within 3 months after the effective date of this AD.

Although the service information referenced in EASA AD 2016-0028 specifies that trained and authorized Zodiac Aerospace personnel must do the inspection of the half rescue kit, this AD does not require that Zodiac Aerospace personnel do the inspection.

Costs of Compliance

The FAA estimates that this AD affects 30 helicopters of U.S. registry. The FAA estimates the following costs to comply with this AD:

Estimated Costs for Required Actions
Labor cost | Parts cost | Cost per product | Cost on U.S. operators
1 work-hour × $85 per hour = $85 | $3,000 | $3,085 | $92,550

The FAA estimates the following costs to do any necessary on-condition actions that would be required based on the results of any required actions. The FAA has no way of determining the number of helicopters that might need these on-condition actions:

Estimated Costs of On-Condition Actions
Labor cost | Parts cost | Cost per product
7.5 work-hours × $85 per hour = $637.50 | Up to $78,154 | Up to $78,791.50.

According to Zodiac Aerospace, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-11-10 Airbus Helicopters: Amendment 39-21572; Docket No. FAA-2021-0188; Project Identifier MCAI-2020-00642-R.

(a) Effective Date

This airworthiness directive (AD) is effective August 27, 2021.

(b) Affected ADs

None.

(c) Applicability

This AD applies to Airbus Helicopters Model SA-365N, SA-365N1, AS-365N2, and AS 365 N3 helicopters, certificated in any category, as identified in European Aviation Safety Agency (now European Union Aviation Safety Agency) (EASA) AD 2016-0028, dated February 15, 2016 (EASA AD 2016-0028).

(d) Subject

Joint Aircraft System Component (JASC) Code 2564, Life Raft.

(e) Reason

This AD was prompted by a report that damage (scorch marks) was found on an internal life raft installation that contained a half rescue kit. Investigation revealed that the damage was caused by an unsuitable folding process for the life raft, which led to compression of the flashlight battery in the half rescue kit. The FAA is issuing this AD to address leakage of the flashlight battery in a half rescue kit, which could result in damage to the internal life raft, and subsequent failure of the internal life raft to deploy (for example after a ditching), which could impede or prevent safe evacuation of the occupants from the helicopter.

(f) Compliance

Comply with this AD within the compliance times specified, unless already done.

(g) Requirements

Except as specified in paragraph (h) of this AD: Comply with all required actions and compliance times specified in, and in accordance with, EASA AD 2016-0028.

(h) Exceptions to EASA AD 2016-0028

(1) Where EASA AD 2016-0028 refers to its effective date or to January 7, 2016 (the effective date of EASA AD 2015-0242), this AD requires compliance within 3 months after the effective date of this AD.

(2) The “Remarks” section of EASA AD 2016-0028 does not apply to this AD.

(3) Where paragraph (2) of EASA AD 2016-0028 specifies accomplishing corrective actions in accordance with the instructions of Zodiac Aerospace SB No. 025-64-13 referred to in paragraph 3.B of Airbus Helicopters ASB AS365-25.01.63, this AD requires using Zodiac Aerospace Service Bulletin SB 025-64-13, Revision 0, dated November 23, 2015 or Revision 1, dated January 19, 2016.

(4) Although the service information referenced in EASA AD 2016-0028 specifies to return certain parts, this AD does not include that requirement.

(5) Although the service information referenced in EASA AD 2016-0028 specifies that trained and authorized Zodiac Aerospace personnel must do the inspection of the half rescue kit, this AD does not require that Zodiac Aerospace personnel do the inspection.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: 9-AVS-AIR-730-AMOC@faa.gov.

(2) Before using any approved AMOC, notify your appropriate principal inspector, or lacking a principal inspector, the manager of the local flight standards district office/certificate holding district office.

(j) Related Information

For more information about this AD, contact Kathleen Arrigotti, Program Manager, Large Aircraft Section, International Validation Branch, Compliance & Airworthiness Division, FAA, 2200 South 216th St., Des Moines, WA 98198; telephone and fax (206) 231-3218; email kathleen.arrigotti@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2016-0028, dated February 15, 2016.

(ii) Zodiac Aerospace Service Bulletin SB 025-64-13, Revision 0, dated November 23, 2015.

(iii) Zodiac Aerospace Service Bulletin SB 025-64-13, Revision 1, dated January 19, 2016.

(3) For EASA AD 2016-0028, contact the EASA, Konrad-Adenauer-Ufer 3, 50668 Cologne, Germany; telephone +49 221 8999 000; email ADs@easa.europa.eu; internet www.easa.europa.eu. You may find this EASA AD on the EASA website at https://ad.easa.europa.eu. For Zodiac Aerospace service information, contact Safran Aerosystems—Plaisir, 61 rue Pierre Curie CS20001, 78373 Plaisir Cedex, France; telephone (33) 1 61 34 23 23; fax (33) 1 61 34 24 41; or at https://www.safran-aerosystems.com.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0188.

(5) You may view this material that is incorporated by reference at the National Archives and Records Administration (NARA). For information on the availability of this material at NARA, email fedreg.legal@nara.gov, or go to https://www.archives.gov/federal-register/cfr/ibr-locations.html.

Issued on June 10, 2021.
Ross Landes,
Deputy Director for Regulatory Operations, Compliance & Airworthiness Division, Aircraft Certification Service.

[FR Doc. 2021-15480 Filed 7-22-21; 8:45 am]

BILLING CODE 4910-13-P